DEPARTMENT OF DEFENSE

Department of the Army

Notice of Intent To Prepare an Environmental Impact Statement for Disposal and Reuse of Parcel 20 at Savanna Army Depot Activity, Illinois

AGENCY: Department of the Army, DoD.

ACTION: Notice of intent.

SUMMARY: The Department of the Army (Army) is issuing this Notice of Intent (NOI) to prepare an Environmental Impact Statement (EIS) to assess the potential environmental and socioeconomic effects associated with the disposal and reuse of an approximately 132-acre land parcel at the Savanna Army Depot Activity (SVADA), Illinois. Under the proposed action, the Army would dispose of the parcel, known as Local Redevelopment Authority (LRA) Parcel 20, and transfer it to the Jo-Carroll Depot LRA or other recipients for their reuse. The EIS will analyze the potential direct effects of the Army conveying LRA Parcel 20 and the potential indirect effects of reuse of the parcel.

DATES: A 30-day public scoping period will start on the date of this NOI's publication in the Federal Register. Through the scoping process, the Army is inviting input regarding alternatives, effects, information, studies, and analyses with respect to the proposed action. The Army will be conducting analysis and consultation to comply with applicable laws and regulations and is soliciting comments and concerns regarding the effects of the proposed action. Comments will be accepted any time during the EIS process; however, to ensure the Army has sufficient time to consider public scoping comments during the preparation of the Draft EIS, please submit comments within the 30-day scoping period.

The Notice of Availability (NOA) of the Draft EIS is anticipated to be published in late 2025, and the NOA of the Final EIS is anticipated to be published in spring 2026. A decision can be announced no earlier than 30 days after publication of the NOA of the Final EIS. The Army invites the public, stakeholders, and other interested parties to attend a scoping meeting on Thursday, January 16, 2025, from 5:00 p.m. to 6:30 p.m. at West Carroll High School, 500 Cragmoor Street, Savanna, Illinois. The open-house style meeting will provide an opportunity for attendees to learn more about the proposed action and the scope of the EIS. Project team members will be available to answer questions and exhibits will be on view throughout the meeting. Attendees also will have an opportunity to provide oral comments during the scoping meeting. Written comments are encouraged and can be submitted at any time.

ADDRESSES: Comments can be submitted by email to SVADAEIS@tetratech.com or by regular mail to SVADA EIS c/o Tetra Tech, 107 St. Francis Street, Suite 2370, Mobile, AL 36602. SVADA EIS documentation is available online at www.lrd.usace.army.mil/Submit-ArticleCS/Programs/Article/3901394/.

FOR FURTHER INFORMATION CONTACT: For other SVADA inquires or for assistance under the Americans with Disabilities Act, please email Mr. Thomas Lineer, Public Affairs, at thomas.a.lineer.civ@army.mil. For other EIS inquiries, please contact Mr. Joe Hand by phone at 251-694-3881 or by email at joseph.h.hand@usace.army.mil.

SUPPLEMENTARY INFORMATION: The U.S. Department of Defense 1995 Base Realignment and Closure (BRAC) Commission made recommendations for realignment and closure of military installations in accordance with the Defense Base Closure and Realignment Act of 1990 (Pub. L. 101-510, as amended). The recommendations included closure of SVADA, located in northwestern Illinois along the Mississippi River in Jo Daviess and Carroll Counties. The Army officially closed SVADA in 2000. Following closure, the Army proposed disposal of SVADA's 13,061 acres because the property was excess to the Army's needs. Approximately 5,343.9 acres have been transferred as of the date of this notice. The proposed action is the transfer of LRA Parcel 20's 132 acres. The need for this action is to carry out the BRAC recommendation for the closure of SVADA, which became law, and to make the parcel available for reuse.

Through the BRAC process, as SVADA property parcels were certified as clean from environmental contaminants, the Army transferred the property to federal, state, or local agencies. The agencies that have taken ownership of SVADA parcels are the U.S. Fish and Wildlife Service (USFWS), the U.S. Army Corps of Engineers, the Illinois Department of Natural Resources, and the LRA.

In the original reuse plan, Parcel 20 was to go to the USFWS. In 2016, USFWS withdrew its interest in the parcel. The Army officially identified the parcel as surplus in January 2018. In 2023, the LRA submitted to the Army a Reuse Plan for Parcel 20. The EIS will analyze the proposed action of disposal and transfer of Parcel 20, a no-action alternative, three LRA reuse alternatives, an alternative under which Parcel 20 would be available for recreation but would otherwise remain undeveloped, and an alternative under which Parcel 20 would be available for recreation and solar development. The no-action alternative is required by 40 CFR 1502.14(c) and serves as the baseline against which the proposed action and other alternatives are compared. The LRA presents in its 2023 Reuse Plan three conceptual reuse alternatives for developing LRA Parcel 20. The three alternatives focus on creating an inland commodity shipping facility, including commercial, industrial, recreational, and potentially solar development under each alternative. To facilitate implementation, the LRA designed the reuse alternatives as sequential phases. The initial phase would be implemented within a five-year target completion window, while the second and third phases would follow, with both having five-year-plus completion windows. The LRA's proposed reuse includes activities outside the boundary of LRA Parcel 20 in the Apple River, the Brickhouse Slough, the Mississippi River, and along Apple Island. All three of the LRA's reuse alternatives would require dredging. The recreation-only use alternative would implement recreational elements on Parcel 20 such as a walking trail, a canoe and kayak ramp on Commander's Pond, and a recreational area. The recreation and solar alternative would include a walking trail and canoe and kayak ramp on the pond, with solar photovoltaic arrays instead of a recreation area.

The EIS will analyze a wide range of environmental resource areas and effects, including—but not limited to—land use, aesthetics and visual resources, air quality, noise, geology and soils, water resources, biological resources, cultural resources, socioeconomics, transportation, utilities, hazardous and toxic materials, and cumulative environmental effects. Effects on water, biological resources, and cultural resources could be significant, and a Clean Water Act wetlands permit may be required. Additional resources and conditions may be identified as a result of the scoping process initiated by this NOI.

Interested local, state, and federal officials and agencies, federally recognized Tribes, and the public will be invited to participate in the 30-day scoping process, which includes a scoping meeting. The Army is seeking comments on alternatives and effects, as well as relevant information, studies, or analyses with respect to the proposed action. Opportunities for public participation will be announced in the local news media and on the project website at www.lrd.usace.army.mil/Submit-ArticleCS/Programs/Article/3901394/. Comments from the public will be considered before completion of a Draft EIS. Following completion of a Draft EIS, the public will have an additional opportunity for review and comment. The Final EIS will make appropriate changes based on public comments and its release will start a 30-day waiting period. After that time, the Army will sign a Record of Decision (ROD) announcing the chosen alternative.

Scoping and Agency Coordination: Consultation will include, but not necessarily be limited to, consultation under Section 7 of the Endangered Species Act and Section 106 of the National Historic Preservation Act. This includes consultation with federally recognized Tribes. The Army will determine the scope of the analysis by soliciting comments from interested local, state, and federal officials and agencies, federally recognized Tribes, and members of the public.

CEQ Unique Identifier: EISX-007-21-000-1729699335.

James W. Satterwhite, Jr.,
U.S. Army Federal Register Liaison Officer.

[FR Doc. 2024-30383 Filed 12-19-24; 8:45 am]

BILLING CODE 3710-08-P